DEPARTMENT OF HEALTH AND HUMAN SERVICES

National Institutes of Health

National Heart, Lung, and Blood Institute Amended Notice of Meeting

Notice is hereby given of a change in the meeting of the Board of Scientific Counselors, NHLBI, October 29, 2012, 09:00 a.m. to October 29, 2012, 05:00 p.m., National Institutes of Health, Building 10, 10 Center Drive, Room B1D401, Bethesda, MD 20892 which was published in the Federal Register on September 20, 2012, 2012-23127.

The meeting was postponed from an October 29, 2012 in person meeting to a November 27, 2012 teleconference due to the October 29, 2012 Government closure. The meeting is closed to the public.

Dated: November 1, 2012.
Michelle Trout,
Program Analyst, Office of Federal Advisory Committee Policy.

[FR Doc. 2012-27095 Filed 11-6-12; 8:45 am]

BILLING CODE 4140-01-P